DEPARTMENT OF AGRICULTURE

Agricultural Marketing Service

7 CFR Part 63

[Doc. No. AMS-LS-08-0064]

National Sheep Industry Improvement Center

AGENCY: Agricultural Marketing Service, USDA.

ACTION: Affirmation of interim rule as a final rule.

SUMMARY: The Agricultural Marketing Service (AMS) is affirming without changes, its interim rule to promulgate rules and regulations establishing a National Sheep Industry Improvement Center (NSIIC) program, consistent with the Food, Conservation, and Energy Act of 2008 (Farm Bill). This rule establishes the NSIIC and a Board of Directors (Board) that will manage and be responsible for the general supervision of the activities of the NSIIC, with oversight from the U.S. Department of Agriculture (USDA). The NSIIC is authorized to use funds to make grants to eligible entities in accordance with a strategic plan. No comments were received. Accordingly, AMS is issuing this final rule without changes.

DATES: Effective Date: December 8, 2010.

FOR FURTHER INFORMATION CONTACT: Kenneth R. Payne, Chief, Marketing Programs Branch; Telephone 202/720-1115; Fax to 202/720-1125; or e-mail to Kenneth.Payne@ams.usda.gov.

SUPPLEMENTARY INFORMATION: This final rule is published pursuant to 7 U.S.C.2008j as amended by section 11009 of the Food, Conservation, and Energy Act of 2008 (Pub. L. 110-246). This section also affirms information contained in the interim rule concerning Executive Order 12866, Public Law 104-4, Executive Order 12988, Executive Order 13132, and the Regulatory Flexibility Act. Further, for this action, the Office of Management and Budget (OMB) has determined that this action is not significant under Executive Order 12866 and therefore has not been reviewed by OMB.

Paperwork Reduction Act

In accordance with the Paperwork Reduction Act (PRA), AMS previously requested approval from OMB of a new information collection. In the interim rule, comments were requested on three forms concerning the Board nomination process. None were received. The information collection has been approved by OMB under OMB control number 0581-002.

Background Information

The NSIIC was initially authorized under the Consolidated Farm and Rural Development Act (Act) (7 U.S.C. 2008j). The Act, as amended, was passed as part of the 1996 Farm Bill (Pub. L. 104-127). The initial legislation included a provision that privatized the NSIIC 10 years after its ratification or once the full appropriation of $50 million was disbursed. Subsequently, the NSIIC was privatized on September 30, 2006 (72 FR 28945).

In 2008, the NSIIC was re-established under Title XI of the Food, Conservation, and Energy Act of 2008 (Pub. L. 110-246), also known as the 2008 Farm Bill. Section 11009 of the 2008 Farm Bill repealed the requirement in section 375(e)(6) of the Act to privatize the NSIIC. Additionally, the 2008 Farm Bill provided for $1 million in mandatory funding for fiscal year (FY) 2008 from the Commodity Credit Corporation for the NSIIC to remain available until expended, as well as authorization for appropriations in the amount of $10 million for each of FY 2008 through FY 2012.

The authorizing legislation established in the U.S. Department of the Treasury (Treasury) the NSIIC Revolving Fund (Fund). The Fund is to be available to the NSIIC, without fiscal year limitation, to carry out the authorized programs and activities of the NSIIC. The law provides authority for amounts in the Fund to be used for direct loans, loan guarantees, cooperative agreements, equity interests, investments, repayable grants, and grants to eligible entities, either directly or through an intermediary, in accordance with a strategic plan submitted by the NSIIC to the Secretary. This rulemaking will establish the NSIIC and use of the Fund for making only grants to eligible entities.

The purpose of the NSIIC is to: (1) Promote strategic development activities and collaborative efforts by private and State entities to maximize the impact of Federal assistance to strengthen and enhance production and marketing of sheep or goat products in the United States; (2) Optimize the use of available human capital and resources within the sheep or goat industries; (3) Provide assistance to meet the needs of the sheep or goat industry for infrastructure development, business development, production, resource development, and market and environmental research; (4) Advance activities that empower and build the capacity of the U.S. sheep or goat industry to design unique responses to the special needs of the sheep or goat industries on both a regional and national basis; and (5) Adopt flexible and innovative approaches to solving the long-term needs of the U.S. sheep or goat industry. The final rule authorizes a grant only program to be administered by the NSIIC Board.

Comments

On July 23, 2010, USDA published in the Federal Register (75 FR 43031) an interim rule with a request for comments to be received by September 21, 2010. USDA received no comments.

List of Subjects in 7 CFR Part 63

Administrative practice and procedure, Advertising, Lamb and lamb products, Goat and goat products, Consumer information, Marketing agreements, Reporting and recordkeeping requirements.

PART 63—NATIONAL SHEEP INDUSTRY IMPROVEMENT CENTER

Accordingly, the interim rule that added part 63 to chapter 1 of title 7, which was published on July 23, 2010 (75 FR 43031), is adopted as a final rule without change.

Dated: December 1, 2010.
David R. Shipman,
Acting Administrator.

[FR Doc. 2010-30534 Filed 12-6-10; 8:45 am]

BILLING CODE 3410-02-P